DEPARTMENT OF THE INTERIOR

Bureau of Ocean Energy Management

[MMAA104000]

Environmental Documents Prepared for Oil, Gas, and Mineral Operations by the Gulf of Mexico Outer Continental Shelf (OCS) Region

AGENCY: Bureau of Ocean Energy Management (BOEM), Interior.

ACTION: Notice of the availability of environmental documents prepared for OCS mineral proposals by the Gulf of Mexico OCS Region.

SUMMARY: BOEM, in accordance with Federal regulations that implement the National Environmental Policy Act (NEPA), announces the availability of NEPA-related Site-Specific Environmental Assessments (SEAs) and Findings of No Significant Impact (FONSIs). These documents were prepared during the period October 1, 2013, through December 31, 2013, for oil, gas, and mineral-related activities that were proposed in the Gulf of Mexico, and are more specifically described in the Supplementary Information section of this notice.

FOR FURTHER INFORMATION CONTACT: Bureau of Ocean Energy Management, Gulf of Mexico OCS Region, Attention: Public Information Office (GM 250E), 1201 Elmwood Park Boulevard, Room 250, New Orleans, Louisiana 70123-2394, or by calling 1-800-200-GULF.

SUPPLEMENTARY INFORMATION: BOEM prepares SEAs and FONSIs for certain proposals that relate to exploration, development, production, and transport of oil, gas, and mineral resources on the Federal OCS. These SEAs examine the potential environmental effects of proposed activities and present BOEM conclusions regarding the significance of those effects. Each SEA is used as a basis for determining whether or not approval of the proposal constitutes a major Federal action that significantly affects the quality of the human environment in accordance with NEPA Section 102(2)(C). A FONSI is prepared in those instances where BOEM finds that approval will not result in significant effects on the quality of the human environment. The FONSI briefly presents the basis for that finding and includes a summary or copy of the SEA.

This notice constitutes the public notice of availability of environmental documents required under the NEPA regulations.

Activity/operator | Location | Date
EPL Oil & Gas, Inc., Structure Removal, SEA ES/SR 13-153 | South Pass, Block 28, Lease OCS 00353, located 4 miles from the nearest Louisiana shoreline | 10/1/2013
Apache Corporation, Structure Removal, SEA ES/SR 13-097 | Eugene Island, Block 273, Lease OCS-G 00987, located 56 miles from the nearest Louisiana shoreline | 10/2/2013
Statoil Gulf Properties Inc., Exploration Plan, SEA N-9711 | DeSoto Canyon, Blocks 143, 187, & 231, Leases OCS-G 33771, 33774, & 33780, located 100 miles from the nearest Louisiana shoreline | 10/3/2013
Statoil Gulf of Mexico LLC, Exploration Plan, SEA N-9721 | Mississippi Canyon, Block 718, Lease OCS-G 34456, located 48 miles from the nearest Louisiana shoreline | 10/3/2013
Stone Energy Corporation, Structure Removal, SEA ES/SR 13-152 | Ship Shoal, Block 146, Lease OCS-G 22705, located 21 miles from the nearest Louisiana shoreline | 10/15/2013
Stone Energy Corporation, Structure Removal, SEA ES/SR 13-140 | South Marsh, Block 108, Lease OCS-G 00792, located 69 miles from the nearest Louisiana shoreline | 10/15/2013
Petroleum Geo Services, Geological & Geophysical Survey, SEA T13-004 | Central & Western Planning Areas of the Gulf of Mexico | 10/21/2013
SandRidge Energy Offshore, LLC, Structure Removal, SEA ES/SR 13-032 | Ship Shoal, Block 188, Lease OCS-G 22712, located 31 miles from the nearest Louisiana shoreline | 10/23/2013
Apache Corporation, Structure Removal, SEA ES/SR 13-172 | Eugene Island, Block 105, Lease OCS-G 00797, located 17 miles from the nearest Louisiana shoreline | 10/29/2013
Sojitz Energy Venture, Inc., Structure Removal, SEA ES/SR 13-168 | Vermilion, Block 86, Lease OCS-G 22613, located 20 miles from the nearest Louisiana shoreline | 10/30/2013
Apache Corporation, Structure Removal, SEA ES/SR 13-176 | Eugene Island, Block 105, Lease OCS-G 00797, located 18 miles from the nearest Louisiana shoreline | 10/31/2013
W & T Offshore, Inc., Structure Removal, SEA ES/SR 13-165 | Ship Shoal, Block 148, Lease OCS-G 11983, located 40 miles from the nearest Louisiana shoreline | 10/31/2013
Apache Corporation, Structure Removal, SEA ES/SR 13-173 | Eugene Island, Block 105, Lease OCS-G 00797, located 17 miles from the nearest Louisiana shoreline | 11/4/2013
Apache Corporation, Structure Removal, SEA ES/SR 13-178 | South Pelto, Block 25, Lease OCS-G 14535, located 14 miles from the nearest Louisiana shoreline | 11/4/2013
EnVen Energy Ventures, LLC, Structure Removal, SEA ES/SR 13-169 | Viosca Knoll, Block 385, Lease OCS-G 16542, located 36 miles from the nearest Louisiana shoreline | 11/5/2013
Royal Production Company, Inc., Structure Removal, SEA ES/SR 13-189 | Brazos, Block 502, Lease OCS-G 25515, located 32 miles from the nearest Texas shoreline | 11/6/2013
Apache Corporation, Structure Removal, SEA ES/SR 13-179 | Eugene Island, Block 105, Lease OCS-00797, located 17 miles from the nearest Louisiana shoreline | 11/6/2013
Fieldwood Energy LLC, Structure Removal, SEA ES/SR 13-170 | Eugene Island, Block 105, Lease OCS-G 00797, located 17 miles from the nearest Louisiana shoreline | 11/12/2013
Apache Shelf, Inc., Structure Removal, SEA ES/SR 13-180 | Vermilion, Block 26, Lease OCS 00297, located 3 miles from the nearest Louisiana shoreline | 11/12/2013
Anadarko Petroleum Corporation, Exploration Plan, SEA R-5968 | East Breaks, Block 645, Lease OCS-G 32822, located 118 miles from the nearest Texas shoreline | 11/13/2013
WesternGeco LLC, Geological & Geophysical Survey, SEA L13-032 | Central Planning Area of the Gulf of Mexico | 11/14/2013
ION Geophysical Corporation, Geological & Geophysical Survey, SEA L13-031 | Central Planning Area of the Gulf of Mexico | 11/15/2013
Shell Offshore Inc., Exploration Plan, SEA R-5976 | Central Planning Area of the Gulf of Mexico | 11/19/2013
Fieldwood Energy LLC, Structure Removal, SEA ES/SR 13-171 | Eugene Island, Block 105, Lease OCS-G 00797, located 17 miles from the nearest Louisiana shoreline | 11/19/2013
Shell Offshore Inc., Development Operations Coordination Document, SEA S-7626 | Mississippi Canyon, Block 934, Lease OCS-G 07975, located 61 miles from the nearest Louisiana shoreline | 11/19/2013
BHP Billiton Petroleum (GOM) Inc., Development Operations Coordination Document, SEA S-7616 | Green Canyon, Block 653, Lease OCS-G 20084, located 120 miles from the nearest shoreline in Terrebonne Parish, Louisiana | 11/20/2013
Anadarko Petroleum Corporation, Exploration Plan, SEA S-7625 | East Breaks, Block 689, Lease OCS-G 22295 & East Breaks, Block 690, Lease OCS-G 22296, located 121 miles from the nearest shoreline in Brazoria County, Texas | 11/22/2013
Chevron U.S.A. Inc., Exploration Plan, SEA N-9743 | Green Canyon, Block 807, Lease OCS-G 31752, located 131 miles from the nearest Louisiana shoreline | 11/27/2013
LLOG Exploration Offshore, L.L.C., Exploration Plan, SEA S-7635 | Mississippi Canyon, Block 705, Lease OCS-G 31521, located 56 miles from the nearest shoreline in Plaquemines Parish, Louisiana | 11/27/2013
Walter Oil & Gas Corporation, Exploration Plan, SEA N-9728 | Ewing Bank, Block 833, Lease OCS-G 33706, located 65 miles from the nearest shoreline in Plaquemines Parish, Louisiana | 11/29/2013
Rooster Petroleum, LLC, Structure Removal, SEA ES/SR 13-187 | High Island, Block 115, Lease OCS-G 18936, located 24 miles from the nearest Louisiana shoreline | 12/2/2013
Apache Shelf, Inc., Structure Removal, SEA ES/SR 13-182 | Vermilion, Block 26, Lease OCS 00297, located 5 miles from the nearest Louisiana shoreline | 12/2/2013
Union Oil Company of California, Exploration Plan, SEA R-5982 | Walker Ridge, Block 143, Lease OCS-G 21849, located 155 miles from the nearest shoreline in Terrebonne Parish, Louisiana | 12/2/2013
Energy Resource Technology GOM, Inc., Structure Removal, SEA ES/SR 05-123 | Ship Shoal, Block 250, Lease OCS-G G27132, located 91 miles from the nearest Louisiana shoreline | 12/3/2013
BP Exploration & Production Inc., Exploration Plan, SEA R-6009 | Keathley Canyon, Block 57, Lease OCS-G 25777, located 185 miles from the nearest Louisiana shoreline | 12/4/2013
Walter Oil & Gas Corporation, Exploration Plan, SEA R-6015 | South Timbalier, Block 72, Lease OCS-G 34322, located 18 miles from the nearest Louisiana shoreline | 12/4/2013
SandRidge Energy Offshore, LLC, Structure Removal, SEA ES/SR 13-035 | West Cameron, Block 246, Lease OCS-G 24721, located 45 miles from the nearest Louisiana shoreline | 12/4/2013
Fieldwood Energy LLC, Structure Removal, SEA ES/SR 13-175 | Eugene Island, Block 105, Lease OCS-G 00797, located 18 miles from the nearest Louisiana shoreline | 12/5/2013
Fieldwood Energy LLC, Structure Removal, SEA ES/SR 13-191 | Eugene Island, Block 105, Lease OCS-G 00797, located 17 miles from the nearest Louisiana shoreline | 12/9/2013
Apache Corporation, Structure Removal, SEA ES/SR 13-202 | High Island, Block 52, Lease OCS-G 00511, located 12 miles from the nearest Texas shoreline | 12/9/2013
Apache Shelf, Inc., Structure Removal, SEA ES/SR 13-181 | Vermilion, Block 26, Lease OCS-G 00297, located 5 miles from the nearest Louisiana shoreline | 12/9/2013
Rooster Petroleum, LLC, Structure Removal, SEA ES/SR 13-188 | South Timbalier, Block 99, Lease OCS-G 10825, located 25 miles from the nearest Louisiana shoreline | 12/10/2013
Shell Offshore Inc., Geological & Geophysical Survey, SEA L13-035 | Central Planning Area of the Gulf of Mexico | 12/11/2013
Apache Corporation, Structure Removal, SEA ES/SR 13-197 | Grand Isle, Block 20, Lease OCS-G 03596, located 12 miles from the nearest Louisiana shoreline | 12/16/2013
WesternGeco LLC, Geological & Geophysical Survey, SEA L13-038 | Central & Eastern Planning Areas of the Gulf of Mexico | 12/17/2013
Apache Corporation, Structure Removal, SEA ES/SR 13-203 | High Island, Block 52, Lease OCS-G 00512, located 14 miles from the nearest Louisiana shoreline | 12/17/2013
Fairfield Nodal, Geological & Geophysical Survey, SEA L13-039 | Central Planning Area of the Gulf of Mexico | 12/18/2013
Apache Shelf, Inc., Structure Removal, SEA ES/SR 13-201 | Vermilion, Block 26, Lease OCS-G 00297, located 5 miles from the nearest Louisiana shoreline | 12/18/2013
Anadarko Petroleum Corporation, Exploration Plan, SEA S-7636 | Green Canyon, Blocks 859 & 903, Lease OCS-G 24194 & 24197, located south of Terrebonne Parish, Louisiana, 135 miles from the nearest shoreline | 12/19/2013
Eni US Operating Co. Inc., Exploration Plan, SEA N-9735 | Mississipi Canyon, Block 215, Lease OCS-G 24060, located southeast of Venice, Louisiana, 63 miles from the nearest shoreline in Plaquemines Parish, Louisiana | 12/20/2013
Noble Energy, Inc., Exploration Plan, SEA N-9756 | Mississippi Canyon, Blocks 436, 479, & 480, Lease OCS-G 31503, 33154, & 33157, located southeast of New Orleans, Louisiana, 73 miles from the nearest shoreline | 12/20/2013
TGS, Geological & Geophysical Survey, SEA L13-041 | Central Planning Area of the Gulf of Mexico, located 83 miles from the nearest shoreline | 12/23/2013
Shell Offshore Inc., Exploration Plan, SEA R-6036 | DeSoto Canyon, Block 843, Lease OCS-G 23540, located 82 miles from the nearest Louisiana shoreline | 12/24/2013
Chevron U.S.A. Inc., Exploration Plan, SEA N-9754 | Keathley Canyon, Block 10, Lease OCS-G 27698, located southeast of Brazoria County, TX, 177 miles from the nearest shoreline | 12/24/2013

Persons interested in reviewing environmental documents for the proposals listed above or obtaining information about the SEAs and FONSIs prepared by the Gulf of Mexico OCS Region are encouraged to contact BOEM at the address or telephone listed in the FOR FURTHER INFORMATION CONTACT section.

Dated: January 31, 2014.
John L. Rodi,
Regional Director, Gulf of Mexico OCS Region.

[FR Doc. 2014-04864 Filed 3-4-14; 8:45 am]

BILLING CODE 4310-MR-P